DEPARTMENT OF COMMERCE

National Oceanic and Atmospheric Administration

[I.D. 081303B]

Marine Mammals; File Nos. 704-1698 and 1044-1706

AGENCY: National Marine Fisheries Service (NMFS), National Oceanic and Atmospheric Administration (NOAA), Commerce.

ACTION: Receipt of applications for permits.

SUMMARY: Notice is hereby given that the following applicants have applied in due form for a permit to take marine mammals parts from species of marine mammals under NMFS jurisdiction for purposes of scientific research: The University of Alaska Museum, 907 Yukon Drive, P.O. Box 756960, Fairbanks, AK 99775 (Dr. Gordon Jarrell, Principal Investigator (PI)); and The Alaska Sea Otter and Steller Sea Lion Commission (TASSC), 6239 B Street, Suite 204, Anchorage, AK 99518 (Dr. Dolly Garza, PI).

DATES: Written or telefaxed comments on the new applications must be received on or before October 8, 2003.

ADDRESSES: The applications and related documents are available for review upon written request or by appointment in the following office(s):

All documents: Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Jennifer Skidmore, 301/713-2289.

SUPPLEMENTARY INFORMATION: The subject permits are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Applications for permits:

File No. 704-1698: The University of Alaska Museum proposes to acquire, import and export specimen samples (whole carcasses; hard and soft parts) from all marine mammal species (pinnipeds and cetaceans) under NMFS jurisdiction. An unlimited number of samples would be taken from the following: 1) stranded marine mammal carcasses; 2) marine mammals taken by Alaskan Native subsistence hunters; and 3) specimens from permitted scientists in academic, federal, and state institutions involved in marine mammal research. Importation and exportation are requested in order to provide specimens to the international scientific community and bring legally acquired specimens from other museums and scientific donations. The objective of this application is to obtain authorization to archive specimens for future bona fide research at the University of Alaska and other institutions in the U.S. and world-wide. The applicant has requested a five-year permit.

File No. 1044-1706: TASSC proposes to receive parts and tissues from stranded marine mammals collected by coastal Alaska Native subsistence users and those from legally subsistence hunted Steller sea lions and other species. Authority to import and export samples is requested. Further, TASSC proposes to standardize Steller sea lion biological sampling techniques among Alaska Native subsistence users through a series of workshops with harvest communities. The objectives of this research are to promote Alaska Native participation in Steller sea lion conservation and management; assess the health and condition of Steller sea lions through biological data and tissue collection; educate and inform the public on the traditional and contemporary relationship between the Steller sea lion and Alaska Natives; and work with regulatory agencies toward the common goal of enhancing and protecting healthy Steller sea lion populations. The applicant has requested a five-year permit.

Concurrent with the publication of this notice in the Federal Register, NMFS is forwarding copies of these applications to the Marine Mammal Commission and its Committee of Scientific Advisors.

Dated: August 29, 2003.
Stephen L. Leathery,
Chief, Permits, Conservation and Education Division, Office of Protected Resources, National Marine Fisheries Service.

[FR Doc. 03-22782 Filed 9-5-03; 8:45 am]

BILLING CODE 3510-22-S